ENVIRONMENTAL PROTECTION AGENCY

[EPA-HQ-OAR-2006-0742; FRL-8289-3]

Agency Information Collection Activities; Submission to OMB for Review and Approval; Comment Request; Motor Vehicle and Engine Compliance Program Fees (Renewal); EPA ICR No. 2080.03, OMB Control No. 2060-0545

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 18, 2007.

ADDRESSES: Submit your comments, referencing Docket ID No. EPA-HQ-OAR-2006-0742, to (1) EPA online using www.regulations.gov (our preferred method), or by mail to: EPA Docket Center, Environmental Protection Agency, Air and Radiation Docket and Information Center, Mailcode 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Lynn Sohacki, Compliance and Innovative Strategies Division, Office of Transportation and Air Quality, Environmental Protection Agency, 2000 Traverwood, Ann Arbor, Michigan 48105; telephone number: 734-214-4851; fax number: 734-214-4869; e-mail address: sohacki.lynn@epa.gov.

SUPPLEMENTARY INFORMATION: EPA has submitted the following ICR to OMB for review and approval according to the procedures prescribed in 5 CFR 1320.12. On September 14, 2006 (71 FR 54280), EPA sought comments on this ICR pursuant to 5 CFR 1320.8(d). EPA received no comments during the comment period. Any additional comments on this ICR should be submitted to EPA and OMB within 30 days of this notice.

EPA has established a public docket for this ICR under Docket ID No. EPA-HQ-OAR-2006-0742, which is available for online viewing at www.regulations.gov, or in person viewing at the Air and Radiation Docket and Information Center in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket and Information Center is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Motor Vehicle and Engine Compliance Program Fees (Renewal).

ICR numbers: EPA ICR No. 2080.03, OMB Control No. 2060-0545.

ICR Status: This ICR is scheduled to expire on March 31, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA charges user fees for administering its vehicle and engine certification programs. In 2004 the fees were extended to include certification applications for recently regulated categories of off-road vehicles and engines. Manufacturers and importers of covered vehicles and engines are required to pay the applicable certification fee prior to their certification applications being reviewed. This involves submitting payments along with a filing form identifying the engine family to be covered by the fee. There are also correction and refund forms. This ICR estimates the paperwork burden of submitting these fees and associated forms. This information collection covers the entire certification fees program, both on-road and off-road.

Burden Statement: The annual public reporting and recordkeeping burden for this collection of information is estimated to average 0.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Manufacturers or importers of passenger cars, motorcycles, light trucks, heavy duty truck engines, and non-road vehicles or engines required to receive a certificate of conformity from EPA prior to selling or introducing these products into commerce in the U.S.

Estimated Number of Respondents: 419.

Frequency of Response: On occasion.

Estimated Total Annual Hour Burden: 694.8.

Estimated Total Annual Cost: $46,198, including $11,028 in O&M costs and no startup or capital costs.

Changes in the Estimates: There is an increase of 65.8 hours in the total estimated burden currently identified in the OMB Inventory of Approved ICR Burdens. This increase is due to use of actual counts, rather than projections, of fee forms submitted, and to an increase in the estimated time required to process reduced fee and refund requests.

Dated: March 12, 2007.
Oscar Morales,
Director, Collection Strategies Division.

[FR Doc. E7-4932 Filed 3-16-07; 8:45 am]

BILLING CODE 6560-50-P